DEPARTMENT OF JUSTICE

Office of Justice Programs

[OJP (OJJDP) Docket No. 1780]

Notice of Charter Renewal of the Coordinating Council on Juvenile Justice and Delinquency Prevention

AGENCY: Coordinating Council on Juvenile Justice and Delinquency Prevention, Office of Justice Programs, Justice.

ACTION: Notice of charter renewal.

SUMMARY: Notice that the charter of the Coordinating Council on Juvenile Justice and Delinquency Prevention has been renewed.

FOR FURTHER INFORMATION CONTACT: Visit the website for the Coordinating Council at www.juvenilecouncil.gov or contact Elizabeth Wolfe, Designated Federal Official (DFO), Office of Juvenile Justice and Delinquency Prevention (OJJDP), by telephone at (202) 598-9310 (not a toll-free number) or via email: elizabeth.wolfe@ojp.usdoj.gov.

SUPPLEMENTARY INFORMATION: This Federal Register notice notifies the public that the Charter of the Coordinating Council on Juvenile Justice and Delinquency Prevention has been renewed in accordance with the Federal Advisory Committee Act, Section 14(a)(1). The renewal Charter was signed by U.S. Attorney General William P. Barr on June 29, 2020. One can obtain a copy of the renewal Charter by accessing the Coordinating Council on Juvenile Justice and Delinquency Prevention's website at www.juvenilecouncil.gov.

Catherine Doyle,
Associate Administrator, OJJDP.

[FR Doc. 2020-15195 Filed 7-14-20; 8:45 am]

BILLING CODE 4410-18-P